DEPARTMENT OF TRANSPORTATION

National Highway Traffic Safety Administration

[U.S. DOT Docket Number NHTSA-2007-28138]

Reports, Forms, and Recordkeeping Requirements

AGENCY: National Highway Traffic Safety Administration (NHTSA), Department of Transportation.

ACTION: Request for extension of a currently approved collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before September 18, 2007.

ADDRESSES: Comments must refer to the docket notice numbers cited at the beginning of this notice and be submitted to Docket Management, 1200 New Jersey Avenue, SE., West Building Ground Floor, Room W12-140, Washington, DC 20590 by any of the following methods.

• Federal eRulemaking Portal: http://www.regulations.gov. Follow the instructions for submitting comments.

• Agency Web site: http://dms.dot.gov. Follow the instructions for submitting comments on the Docket Management System.

• Fax: (202) 493-2251.

• Mail: Docket Management Facility; U.S. Department of Transportation, 1200 New Jersey Avenue, SE., West Building Ground Floor, Room W12-140, Washington, DC 20590.

• Hand Delivery/Courier: 1200 New Jersey Avenue, SE., West Building Ground Floor, Room W12-140, Washington, DC 20590, between 9 a.m. and 5 p.m., Monday through Friday, except Federal holidays. Telephone: 1-800-647-5527.

Instructions: All submissions must include the agency name and docket number for this proposed collection of information. Note that all comments received will be posted without change to http://dms.dot.gov including any personal information provided.

Docket: For access to the docket to read background documents or comments received, go to http://dms.dot.gov at any time or to Room W12-140 on the ground level of the DOT Building, 1200 New Jersey Avenue, SE., West Building Ground Floor, Washington, DC, between 9 a.m. and 5 p.m., Monday through Friday, except Federal holidays.

FOR FURTHER INFORMATION CONTACT: Complete copies of each request for collection of information may be obtained at no charge from Hisham T. Mohamed, NHTSA, 1200 New Jersey Avenue, SE., West Building, Room W43-437 (fourth floor), NVS-131, Washington, DC 20590. Mr. Mohamed's telephone number is (202) 366-0307. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information.

The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Title: 49 CFR part 575, 104; Uniform Tire Quality Grading Standard.

OMB Control Number: 2127-0519.

Affected Public: All passenger car tire manufacturers and brand name owners offering passenger car tires for sale in the United States.

Form Number: The collection of this information uses no standard form.

Abstract: Part 575 requires tire manufacturers and tire brand owners to submit reports to NHTSA regarding the UTQGS grades of all passenger car tire lines they offer for sale in the United States. This information is used by consumers of passenger car tires to compare tire quality in making their purchase decisions. The information is provided in several different ways to insure that the consumer can readily see and understand the tire grade: (1) The grades are molded into the sidewall of the tire so that they can be reviewed on both the new tire and the old tire that is being replaced; (2) a paper label is affixed to the tread face of the new tire that provides the grade of that particular tire line along with an explanation of the grading system; (3) tire manufacturers provide dealers with brochures for public distribution listing the grades of all of the tirelines they offer for sale; and (4) NHTSA compiles the grading information of all manufacturers' tirelines into a booklet that is available to the public both in printed form and on the Web site.

Estimated Annual Burden: NHTSA estimates that a total of 89,730 man-hours are required to write the brochures, engrave the new passenger car tire molds, and affix the paper labels to the tires. Based on an average hourly rate of $22 per hour for rubber workers in the United States, the cost to the manufacturers is $1,974,060 to perform those items listed above. The largest portion of the cost burden imposed by the UTQGS program arises from the testing necessary to determine the grades that should be assigned to the tires. An average of 125 convoys, driven 7,200 miles each, consisting of four vehicles and four drivers, are run each year for treadwear testing. NHTSA estimates it cost $0.60 per vehicle mile including salaries, overhead and reports. This brings the annual treadwear testing cost to $2,160,000. For the traction testing, it is estimated that 1,900 tires are tested annually with an estimated cost of $38,000 for use of the government test facility. Using a factor of 3.5 times to cover salary and overhead of test contractors, the estimated cost of traction testing is $133,000. A separate temperature grade testing for tires is required, since the test will not be an extension of the high speed performance test of 49 CFR 571.109 which is required for safety certification. Section 571.109 is replaced by § 571.139, which has different test speeds. For the temperature testing, it is estimated that 1,900 tires are tested annually with an estimated average cost per test of $423. Therefore, the estimated UTQGS temperature annual testing is $803,700. Thus the total estimated cost for UTQGS testing is $3,096,700. The cost of printing the tread labels is approximately 21,890,000 and estimate for printing brochures is at $999,000. This yields a total annual financial burden of approximately $25,985,700 (approximately $26 million) on the tire manufacturers.

Estimated Annual Burden to the Government: The estimated annual cost of UTQGS to the Federal government is $1,278,000. The cost consists of approximately $152,000 for data management $730,000 for enforcement testing, and about $396,000 for general administration of the program.

Number of Respondents: There are approximately 163 individual tire brands sold in the United States. The actual number of respondents is much less than 163 due to company acquisitions, mergers, and in most cases, the manufacturer will report for the various individual brand names that they produce tires for. The actual number of respondents is about 65 individual responses.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: July 16, 2007.
Stephen R. Kratzke,
Associate Administrator for Rulemaking.

[FR Doc. E7-14094 Filed 7-19-07; 8:45 am]

BILLING CODE 4910-59-P